DEPARTMENT OF ENERGY

Federal Energy Regulatory Commission

Notice of Intent to File Application for a New License

January 31, 2001.

Take notice that the following notice of intent has been filed with the Commission and is available for public inspection:

a. Type of filing: Notice of Intent to File an Application for New License.

b. Project No: 2145.

c. Date filed: January 12, 2001.

d. Submitted By: Public Utility District No. 1 of Chelan County, Washington.

e. Name of Project: Rocky Reach Project.

f. Location: On the Columbia River near the city of Wenatchee, in Chelan and Douglas counties, in Washington state.

g. Filed Pursuant to: Section 15 of the Federal Power Act, 18 CFR 16.6.

h. Pursuant to Section 16.19 of the Commission's regulations, the licensee is required to make available the information described in Section 16.7 of the regulations. Such information is available from the licensee at Public Utility District No. 1 of Chelan County, Washington. Contact Rosana Sokolowski at 509-663-8121 or Email: rosana@chelanpud.org.

i. FERC Contact: Vince E. Yearick, (202) 219-3073, vince.yearick@ferc.fed.us.

j. Expiration Date of Current License: June 30, 2006.

k. Project Description: The Rocky Reach project consists of a 130-foot high concrete gravity dam on the Columbia River. The powerhouse is 1,088 feet long, 210 feet wide and 218 feet high. It contains 11 generating units with a peak capacity of 1,280 megawatts. The spillway includes 12 gates, each 50 feet wide, that regulate the surface elevation of the reservoir. The project includes fish passage facilities.

1. The license states its unequivocal intent to submit an application for a new license for Project No. 2145. Pursuant to 18 CFR 16.9(b)(1) each application for a new license and any competing license applications must be filed with the Commission at least 24 months prior to the expiration of the existing license. All applications for license for this project must be filed by June 30, 2004.

A copy of the notice of intent is available for inspection and reproduction at the Commission's Public Reference Room, located at 888 First Street, Room 2A, Washington, D.C. 20426, or by calling (202) 208-1371. The notice may be viewed on http://www.ferc.fed.us/online/rims.htm (call (202) 208-2222 for assistance). A copy is available for inspection and reproduction at the address in item h above.

David P. Boergers,
Secretary.

[FR Doc. 01-2999 Filed 2-05-01; 8:45 am]

BILLING CODE 6717-01-M